DEPARTMENT OF THE INTERIOR

Bureau of Land Management

[CA-670-02-1610-JP-064B]

Notice of Availability of a Final Environmental Impact Statement and Associated Amendment to the California Desert Conservation Area Plan and Final Recreation Area Management Plan for the Imperial Sand Dunes Recreation Area

AGENCY: Department of Interior, Bureau of Land Management, California Desert District.

ACTION: Notice of availability of a Final Environmental Impact Statement (FEIS) and associated Amendment to the California Desert Conservation Area Plan (CDCA) and Final Recreation Area Management Plan (FRAMP) for the Imperial Sand Dunes Recreation Area.

DATES: Written protests on the FEIS will be accepted if postmarked within 30 calendar days from the date that a Notice of Availability is published in the Federal Register by the Environmental Protection Agency. Instructions for filing protests are contained in the Final Environmental Impact Statement document cover sheet just inside the front cover, and are included below under SUPPLEMENTARY INFORMATION.

SUMMARY: The final RAMP provides direction and guidance for the management of public lands and resources of the ISDRA, including multiple use goals and ecosystem management objectives, management prescriptions in accordance with the Federal Land Policy and Management Act (FLPMA) of 1976, management direction specific to discrete areas within the ISDRA, and monitoring and evaluation requirements.

ADDRESSES: Copies of the document are being mailed to those who request it. The document is available for review online at http://www.ca.blm.gov/elcentro and is also available in hard copy or CD-Rom at the following addresses and telephone numbers: Bureau of Land Management, El Centro Field Office, 1661 South 4th Street, El Centro, CA 92243. (760) 337-4400.

FOR FURTHER INFORMATION CONTACT: Lynnette Elfer, Bureau of Land Management, 1661 South 4th Street, El Centro, CA 92243; (760) 337-4420.

SUPPLEMENTARY INFORMATION: The Environmental Protection Agency published the Notice of Availability of the Imperial Sand Dunes Recreation Area Management Plan Draft Environmental Impact Statement (DEIS) in the Federal Register on March 29, 2002. The public review period on the DEIS began March 29, 2002 and ended June 28, 2002.

Following are the instructions from the 43 Code of Federal Regulations 1610.5-2 for filing protests. (a) Any person who participates in the planning process and has an interest which is or may be adversely affected by the approval or amendment of a resource management plan may protest such approval or amendment. A protest may raise only those issues which were submitted for the record during the planning process.

(1) The protest shall be in writing and shall be filed with the Director. The protest shall be filed within 30 days of the date the Environmental Protection Agency published the notice of receipt of the final environmental impact statement containing the plan or amendment in the Federal Register. For an amendment not requiring the preparation of an environmental impact statement, the protest shall be filed within 30 days of the publication of the notice of its effective date.

(2) The protest shall contain:

(i) The name, mailing address, telephone number and interest of the person filing the protest;

(ii) A statement of the issue or issues being protested;

(iii) A statement of the part or parts of the plan or amendment being protested;

(iv) A copy of all documents addressing the issue or issues that were submitted during the planning process by the protesting party or an indication of the date the issue or issues were discussed for the record; and

(v) A concise statement explaining why the State Director's decision is believed to be wrong.

(3) The Director shall promptly render a decision on the protest. The decision shall be in writing and shall set forth the reasons for the decision. The decision shall be sent to the protesting party by certified mail, return receipt requested.

(b) The decision of the Director shall be the final decision for the Department of the Interior.

Mailing address for filing a protest:

Regular mail: Director (210), Attn: Brenda Williams, P.O. Box 66538, Washington, DC 20035.

Overnight mail; U.S. Department of the Interior, Director, Bureau of Land Management, Protest Coordinator (WO-210), 1620 “L” Street, NW., Rm 1075, Washington, DC 20036.

Greg Thomsen,
Field Manager, El Centro Field Office.

[FR Doc. 03-13191 Filed 5-29-03; 8:45 am]

BILLING CODE 4310-40-P